GULF COAST ECOSYSTEM RESTORATION COUNCIL

[Docket No. 112032021-111-04]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a Chairperson and a mix of state representatives and career senior executives that meet annually to review and evaluate performance appraisal documents and provide a written recommendation to the Chairperson of the Council for final approval of each executive's performance rating, performance-based pay adjustment, and performance award.

DATES: The board membership is applicable beginning on 12/01/2020 and ending on 12/31/21.

FOR FURTHER INFORMATION CONTACT: Mary S. Walker, Executive Director, Gulf Coast Ecosystem Restoration Council by email mary.walker@restorethegulf.gov or phone 504-210-9982.

SUPPLEMENTARY INFORMATION: In accordance with 5 U.S.C. 4314(c)(4), the persons named below have been selected to serve on the PRB:

Department of Interior: Blanchard, Mary Josie, Deputy Director, Environmental Protection Compliance, MaryJosie_Blanchard@ios.doi.gov, 202-208-3406

State of Florida: Ames, Leslie, Deputy Secretary, Florida Department of Environmental Protection, Leslie.A.Reed@floridadep.gov, 850-545-1483

Environmental Protection Agency: Wyatt, Marc, Director, Gulf of Mexico Division, Wyatt.marc@epa.gov, 228-679-5915

State of Texas: Baker, Toby, Texas Commission of Environmental Quality, Toby.Baker@tceq.texas.gov, 512-239-5515

Keala Hughes,
Director of External Affairs and Tribal Relations.

[FR Doc. 2021-26585 Filed 12-7-21; 8:45 am]

BILLING CODE 6560-58-P